DEPARTMENT OF THE INTERIOR

Fish and Wildlife Service

[FWS-R1-R-2013-N279; 1265-0000-10137-S3]

Deer Flat National Wildlife Refuge, Canyon, Payette, Owyhee, and Washington Counties, ID, and Malheur County, OR; Final Comprehensive Conservation Plan and Environmental Impact Statement

AGENCY: Fish and Wildlife Service, Interior.

ACTION: Notice of availability.

SUMMARY: We, the U.S. Fish and Wildlife Service (Service), announce that our final comprehensive conservation plan and environmental impact statement (CCP/EIS) for the Deer Flat National Wildlife Refuge (Refuge) is available. In the final CCP/EIS, we describe how we propose to manage the Refuge for 15 years.

DATES: We will complete a record of decision 30 days after publication of this notice.

ADDRESSES: The libraries providing public viewing of the final CCP/EIS are listed under SUPPLEMENTARY INFORMATION. You may view, obtain, or request CD-ROM copies of the final CCP/EIS by the following methods.

Web site: http://www.fws.gov/deerflat/refugeplanning.html.

Email: deerflat@fws.gov. Include “Deer Flat Refuge draft CCP/EIS” in the subject line of the message.

Fax: Attn: Refuge Manager, 208-467-1019.

U.S. Mail: Deer Flat National Wildlife Refuge, 13751 Upper Embankment Road, Nampa, ID 83686.

In-Person Viewing or Pickup: Call 208-467-9278 to make an appointment during regular business hours at the above address.

FOR FURTHER INFORMATION CONTACT: Refuge Manager, 208-467-9278 (phone).

SUPPLEMENTARY INFORMATION:

Introduction

With this notice, we announce the availability of the Refuge's final CCP/EIS in accordance with National Environmental Policy Act (NEPA) 40 CFR 1506.6(b) requirements. We started this process through a notice published in the Federal Register on July 15, 2010 (75 FR 41232). We released the draft CCP/EIS to the public, and requested public comments, in a notice of availability published in the Federal Register on March 15, 2013 (78 FR 16526). We completed a thorough analysis of impacts on the human environment in the final CCP/EIS, and responded to public comments.

The CCP will guide us in managing and administering the Refuge for 15 years. Alternative 2, as we described in the Final CCP/EIS, is our preferred alternative.

Background

The CCP Process

The National Wildlife Refuge System Administration Act of 1966, 16 U.S.C. 668dd-668ee (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP/EIS Alternatives

We evaluated four alternatives for managing Deer Flat Refuge; Alternative 2 is our preferred alternative. Based on feedback on the draft CCP/EIS, some modifications have been made to Alternative 2 and are summarized below. A full description of all alternatives, including changes to our preferred alternative, can be found in the final CCP/EIS at the sources identified in ADDRESSES.

Changes to Alternative 2

A youth waterfowl hunt would be opened in all waterfowl hunt zones.

Ice fishing would be allowed in Fishing Areas A and B within 200 yards of the dams, subject to areas posted by the Bureau of Reclamation.

Sailing regattas would be allowed on Lake Lowell in April and May with stipulations.

Swimming would be encouraged in designated areas, and would continue to be allowed elsewhere in Lake Lowell with stipulations.

Organized group events (e.g., weddings, reunions) that are not wildlife-dependent would be allowed at the Lower Dam Recreation Area with stipulations.

Other Features of Alternative 2

Under Alternative 2, we would emphasize connecting families to nature by providing access to new recreational facilities and programs on the Refuge such as developing a visitor contact station, new trails, and a platform for fishing and wildlife observation at the Lower Dam Recreation Area. Nearly all existing upland and on-water recreation would continue. Fishing access would be promoted, and wildlife interpretation would be emphasized and integrated into all Refuge visitor activities. Other compatible wildlife-dependent public uses would continue, including wildlife observation, and waterfowl and upland game hunting. Gotts Point would be opened for automobiles after we complete a law enforcement cooperative agreement with Canyon County. Activities would be managed to protect wildlife, reduce conflicts between uses, and increase safety.

Alternative 2 also includes protections and enhancements for Refuge wildlife. Seasonally closed areas and no-wake zones on Lake Lowell would protect heron rookeries, eagle nests, and grebe nesting colonies, and shoreline feeding and nesting habitats. Motorized boats would be allowed in no-wake zones, at speeds that do not create a wake (generally 5 mph or slower). The lake would continue to be closed October 1-April 14 each year. The no-wake zone on the lake's southeast end would expand to include Gotts Point. A no-wake zone would be added in the Narrows, and a 200-yard no-wake zone would be added along the lake's south side between Parking Lots 1 and 8.

Habitat enhancement would increase. We would implement an Integrated Pest Management (IPM) plan to conduct more intensive and targeted invasive species removal and vegetation manipulation. We would increase wildlife and habitat research and assessments, to build a strong scientific base for future management decisions.

On the Snake River Islands Unit, we would increase wildlife inventory and monitoring under Alternative 2, and implement an IPM plan to control invasive species and restore habitat. We would prioritize the islands' management needs and manage accordingly. Management techniques would include prescribed fire and aerial application of herbicide and seed. Island closure dates would be adjusted to better protect nesting geese, wading birds, gulls, and terns.

Existing compatible public uses provided on the islands, including wildlife observation, deer hunting, and hunting for upland species and waterfowl, would continue on more than 1,200 acres. Most of the islands would be open for off-trail/free-roam activities June 15-January 31, including shoreline fishing. Heron and gull-nesting islands (4-6 islands) would be open for free-roam activities July 1-January 31.

Public Availability of Documents

Review the CCP/EIS at the following libraries, and sources under ADDRESSES.

Caldwell Public Library, 1010 Dearborn St, Caldwell, ID 83605.

Homedale Public Library, 125 W Owyhee Ave, Homedale, ID 83628.

Lizard Butte District Library, 111 3rd Ave W, Marsing, ID 83639.

Nampa Public Library, 101 11th Ave S, Nampa, ID 83651.

Payette Public Library, 24 S 10th St, Payette, ID 83661.

Ada County District Library, 10664 W Victory Rd, Boise, ID 83709.

Comments

We received comments on the draft CCP/EIS from 170 agencies, organizations, and individuals, and a petition with 426 signatures. We addressed the comments in the final CCP/EIS by making changes and clarifications to Alternative 2 as appropriate. The changes are explained in the final CCP/EIS, in Appendix H Public Involvement.

Dated: February 11, 2015.
Richard Hannan,
Acting Regional Director, Pacific Region, Portland, Oregon.

[FR Doc. 2015-03523 Filed 2-19-15; 8:45 am]

BILLING CODE 4310-55-P